DEPARTMENT OF HEALTH AND HUMAN SERVICES

Agency for Healthcare Research and Quality

Request for Measures of Health Plan Efforts To Address Health Plan Members' Health Literacy Needs

AGENCY: Agency for Healthcare Research and Quality (AHRQ), DHHS.

ACTION: Notice of request for measures.

SUMMARY: The Agency for Healthcare Research and Quality (AHRQ) is soliciting the submission of instruments or items that measure how well health plans and health providers address health plan enrollees' health literacy needs and how well they communicate with health plan enrollees. This initiative is in response to the need identified by AHRQ to develop a new supplemental item set (the “new instrument”) for addressing health literacy for the CAHPS® Health Plan Survey. The intent of the planned survey is to gain patients' perspective on how well health and health plan information is communicated to them by healthcare professionals and health plans. The results of the planned survey may become an important source of information for health plans, clinicians, group practices, and other interested parties assessing quality of health information or planning changes in how health plan information is delivered to health plan enrollees.

Based on prior work, there are several functional areas that the new instrument could address. Depending on the communication mode, the new instrument could assess, for example, clarity and simplicity of provided health information related to: (a) Preventive services (e.g., risks and benefits of the service, explanation of screening results); (b) health problems/concerns (e.g., information on how to stay healthy or prevent illness); (c) treatment choices, instructions, or goals (e.g., pros and cons of each option); (d) medications (e.g., reason for taking medications, instructions on how to take medications, possible side effects); and, (e) care management/disease management. A survey using the new instrument may also assess the quality of services supporting health information delivery such as language access (e.g., availability and timeliness of customer service and interpreter services in other languages, availability of forms and patient education materials in other languages), the quality and accessibility of member services and nurse advice lines, the quality and accessibility of health plan information on coverage, benefits, and billing information (including availability in other languages), health plan system navigation and health plan environment (language access and assistance in completing medical paperwork or forms, signage).

DATES: Please submit instruments and supporting information on or before October 22, 2010. AHRQ will not respond individually to submitters, but will consider all submitted instruments and publicly report the results of the review of the submissions in aggregate.

ADDRESSES: Submissions should include a brief cover letter, a copy of the instrument or items for consideration and supporting information as specified under the Submission Criteria below. Submissions may be in the form of a letter or e-mail, preferably with an electronic file as an E-mail attachment. Responses to this request should be submitted to:

Cindy Brach, Center for Delivery, Organization, and Markets, Agency for Healthcare Research and Quality, 540 Gaither Road, Room 5129, Rockville, MD 20850, Phone: (301) 427-1444, Fax: (301) 427-1430, E-mail: Cindy.Brach@AHRQ.hhs.gov.

FOR FURTHER INFORMATION CONTACT: Cindy Brach, at the address above.

Submission Criteria

Instruments and items submitted should focus on patients' perspective on quality of health and health plan information provided by health plans, clinicians, and/or group practices.

Measures submitted must meet these criteria to be considered: (a) Assess patients' or their caregivers' experiences receiving health and health plan information and (b) demonstrate substantial reliability and validity. Submitters must agree to grant to the Government a nonexclusive, irrevocable, royalty-free right to use, distribute to the public, reproduce and create derivative works from the proffered instruments, items or their arrangement. AHRQ must have the right to freely use and authorize others to use the new instrument, which will be distributed under the CAHPS® trademark. The new instrument will combine the best features of all the submissions as well as any ideas that may develop from reviewing them. AHRQ, in collaboration with CAHPS grantees, will evaluate all submitted instruments or items. As they construct the CAHPS instrument, they may select one or more proffered instruments and their items either in whole or in part or modify the items prior to testing them. AHRQ will own and assume responsibility for new instrument as well as any future modifications to it. The new instrument will bear the CAHPS® trademark and it will be made freely available for use by all interested parties.

Each submission should include the following information: The name of the instrument, domains included, language(s) the instrument is available in, evidence of cultural/cross group comparability, if any, instrument reliability (internal consistency, test-retest, etc.), validity (content, construct, criterion-related), response rates, methods and results of cognitive interviews/testing and field-testing and description of sampling strategies (including payer type) and data collection protocols, including such elements as mode of administration, use of advance letters, timing and frequencies of contacts. In addition, a list of where the instrument has been fielded should also be included in the submission. Submission of copies of existing report formats developed to disclose findings to consumers and providers is desirable, but not required. Additionally, information about existing database(s) for the instrument(s) submitted is helpful, but not required for submission. Evidence of the criteria should be demonstrated through publication and submission of peer-reviewed journal article(s) or through the best evidence available at the time of submission. Please include citations of peer-reviewed journal articles.

To facilitate handling of submissions, please include full information about the instrument developer or contact: (a) Name; (b) title; (c) organization; (d) mailing address; (e) telephone number; (f) fax number; and (g) e-mail address.

SUPPLEMENTARY INFORMATION:

Background

The CAHPS program was initiated in 1995 to develop a survey and report on the consumers' perspective on the quality of their health plans. Since that time, the CAHPS program in partnership with CMS and others has expanded its scope and developed surveys and reports regarding individual clinicians, group practices, in-center hemodialysis services, nursing homes and hospitals. AHRQ determined that the CAHPS teams should develop a survey to obtain the consumers' perspective on the quality of health information. The CAHPS program is conducted pursuant to AHRQ's statutory authority to conduct and support research and disseminate information on health care and on systems for the delivery of such care, including activities with respect to: The quality, effectiveness, efficiency, appropriateness and value of health care services; quality measurement and improvement; the outcomes, cost, cost-effectiveness, and use of health care services and access to such services; and health statistics, surveys, database development, and epidemiology. See 42 U.S.C. 299a(a)(1), (2), (3) and (8).

The vision of the Agency for Healthcare Research and Quality is to foster health care research that helps the American health care system provide access to high-quality, cost effective services; be accountable and responsive to consumers and purchasers; and improve health status and quality of life. The CAHPS program was developed as a result of the AHRQ's vision. One of the components missing from the current measurement set is an assessment of patients' perspective on how well health plans, hospital, clinicians, and group practices address health literacy issues.

Dated: August 10, 2010.
Carolyn M. Clancy,
Director.

[FR Doc. 2010-20679 Filed 8-20-10; 8:45 am]

BILLING CODE 4160-90-M